DEPARTMENT OF HEALTH AND HUMAN SERVICES

National Institutes of Health

National Institute of Diabetes and Digestive and Kidney Diseases; Cancellation of Meeting

Notice is hereby given of the cancellation of the National Institute of Diabetes and Digestive and Kidney Diseases Special Emphasis Panel, June 13, 2013, 8:00 a.m. to June 13, 2013, 4:00 p.m., St. Gregory Hotel, 2033 M Street NW., Washington, DC, 20036 which was published in the Federal Register on April 10, 2013, 78 FR 21381.

This meeting is being cancelled due to a scheduling conflict.

Dated: May 24, 2013.
David Clary,
Program Analyst, Office of Federal Advisory Committee Policy.

[FR Doc. 2013-12883 Filed 5-30-13; 8:45 am]

BILLING CODE 4140-01-P